DEPARTMENT OF COMMERCE

National Oceanic and Atmospheric Administration

50 CFR Part 660

[I.D. 091203B]

Public Scoping Meetings on the Management of Bottomfish Fishery Resources within the Exclusive Economic Zone around the Commonwealth of the Northern Mariana Islands

AGENCY: National Marine Fisheries Service (NMFS), National Oceanic and Atmospheric Administration (NOAA), Commerce.

ACTION: Notice of Intent to prepare an environmental impact statement (EIS); notice of scoping meetings; request for written comments.

SUMMARY: The Western Pacific Fishery Management Council (Western Pacific Council) and NMFS announce their intent to prepare a comprehensive EIS in accordance with the National Environmental Policy Act of 1969 (NEPA) on the Federal management of bottomfish fishery resources in the exclusive economic zone (EEZ) around the Commonwealth of the Northern Mariana Islands (CNMI).

The Council will convene public scoping meetings in the CNMI to solicit comments on bottomfish fishery issues and potential management options related to those resources. The scope of the EIS analysis will, among other things, describe activities related to the management, monitoring, and conduct of the fisheries; examine the impacts of bottomfish harvest on archipelagic and localized stocks; and consider the potential impacts to protected species, non-target species, and essential fish habitat. The scoping meetings will provide for public input on the issues, range of alternatives, and impacts the EIS should consider. Written comments will also be accepted concerning the various management options the EIS should consider.

DATES: Public scoping meetings will be held in Saipan, CNMI, on September 24, 2003; in Tinian, CNMI, on September 24, 2003; in Rota, CNMI, September 25, 2003; in Agana, Guam on September 26, 2003. Written comments must be submitted by October 27, 2003. See SUPPLEMENTARY INFORMATION for specific dates, times, and locations.

ADDRESSES: Written comments on the issues, range of alternatives, and impacts that should be discussed in the EIS may be sent to Kitty M. Simonds, Executive Director, Western Pacific Fishery Management Council, 1164 Bishop St., Suite 1400, Honolulu, HI 96813, or to Sam Pooley, Acting Regional Administrator, NMFS, Pacific Islands Regional Office, 1601 Kapiolani Blvd., Suite 1110, Honolulu HI 96814. Comments may be sent to the Council via facsimile (fax) at 808-522-8226 and must be received by October 27, 2003.

FOR FURTHER INFORMATION CONTACT: Kitty M. Simonds, Executive Director, 808-522-8220.

SUPPLEMENTARY INFORMATION: Under the Magnuson-Stevens Fishery Conservation and Management Act (16 U.S.C. 1801 et seq.), the United States has exclusive management authority over all living marine resources found within the EEZ. The management of these marine resources found within the EEZ with the exception of sea birds and some marine mammals, is vested in the Secretary of Commerce (Secretary). Eight Regional Fishery Management Councils prepare fishery management plans for approval and implementation by the Secretary. The Western Pacific Council has the responsibility to prepare fishery management plans for fishery resources in the EEZ of the Western Pacific Region, which include the Federal waters surrounding the CNMI.

NEPA requires preparation of an EIS for major Federal actions significantly impacting the quality of the human environment. Regulations implementing NEPA at 40 CFR 1502. 4(b) state:

“Environmental impact statements may be prepared, and are sometimes required, for broad Federal actions such as adoption of new agency programs or regulations. Agencies shall prepare statements on broad actions so that they are relevant to policy and are timed to coincide with meaningful points in agency planning and decision making.”

The bottomfish fishery resources that occur in the EEZ waters surrounding CNMI are not currently managed under the Fishery Management Plan for the Bottomfish and Seamount Groundfish Fisheries of the Western Pacific Region (FMP), which was developed by the Council and approved by NOAA, becoming effective August 27, 1986 (51 FR 27413). There have been six amendments to the FMP since 1986, and recently, a comprehensive draft EIS describing the environmental effects of the existing fishery activities conducted under the FMP was developed. The draft EIS, which is currently being finalized for transmittal to NOAA, presents an overall picture of the existing management framework for the bottomfish resources occurring in the EEZ of the Western Pacific region.

In order for the bottomfish fishery resources in the EEZ of the CNMI to be managed under the FMP, an amendment to the existing FMP is required. The Council has recently adopted Amendment 8 to the FMP, which if approved, would allow the bottomfish resources in the EEZ waters of the CNMI to be managed under the FMP. Amendment 8 is currently being finalized for transmittal to NOAA.

The FMP provides a management framework for which the Secretary has promulgated corresponding regulations at 50 CFR 660.61. For example, if Amendment 8 is approved, the CFR regulations that would apply to the bottomfish fishery in the EEZ waters of CNMI include, among other things, gear restrictions (50 CFR 660.64) and vessel identification requirements (50 CFR 660.16)

Background

The bottomfish fishery resources occurring in the EEZ waters of Guam are managed under the FMP. Recently, Guam's bottomfish fishery has experienced an increase in effort due to the entry and participation of large-scale vessels (> 50 ft)(15.2 m). This has concerned the Council for multiple reasons: (1) there is a lack of information regarding Guam's bottomfish fishery resources, (2) local catch rates might decline to levels not viable to support the small-vessel component of the fishery, (3) community participation in the fishery may be threatened, and (4) traditional patterns of supply for bottomfish products in the local markets may be disrupted.

These concerns prompted the Council to recommend the development of Amendment 9 to the FMP that would address the apparent increase in effort occurring in Guam's bottomfish fishery. An environmental assessment prepared for the amendment described the various management needs and options to effectively manage the fishery, in addition to the costs of no action. On June 12, 2003, the Council chose the preferred alternative which excludes large-scale vessels (> 50 ft)(15.2 m) from fishing for bottomfish within 50 nm of Guam, the implementation a permit system, and logbook reporting requirements. Reflecting the preferred alternative, Amendment 9 is currently being finalized for transmittal to NOAA.

CNMI

For several years, there has been bottomfish fishing in the EEZ waters of CNMI. A significant portion of the effort in the CNMI's bottomfish fishery is from larger vessels (> 50 ft), which account for sixty percent of the total bottomfish landings in the CNMI.

As a response to the Council's development of Amendment 9, which addresses the emergence of large-scale vessels in Guam's bottomfish fishery, the CNMI is concerned that large-scale vessels displaced from Guam's bottomfish fishery will subsequently fish and exploit the nearby bottomfish resources in the EEZ waters around the CNMI. For this reason, the Council has recommended the development of a comprehensive EIS that describes various options for effective management of the bottomfish fishery around the CNMI.

Alternatives

The Council is scoping to establish a reasonable range of alternatives, which may include gear restrictions, limited access, closed areas, seasonal closures, permits and reporting requirements, and catch limits. In addition to developing possible alternatives, the scoping meetings will serve to identify and eliminate the issues which are not significant or which have been covered by prior environmental review.

Public Involvement

Public scoping is an early and open process for determining the scope of issues to be addressed. A principle objective of the scoping and public involvement process is to identify a reasonable range of management alternatives that, with adequate analysis, will delineate critical issues and provide a clear basis for distinguishing between those alternatives and selecting a preferred alternative.

Dates, Times, and Locations for Public Scoping Meetings

1. Tinian, CNMI — Wednesday, September 24, 2003, from 2-4 p.m. at the Tinian Gaming Commission Conference Room, San Jose, Tinian 96952.

2. Saipan, CNMI — Wednesday, September 24, 2003, from 7-9 p.m. at the Pedro P. Tenorio Multipursoe Building, Susupe, Saipan 96950;

3. Rota, CNMI — Thursday, September 25, 2003, from 1-3 p.m. at the Department of Lands and Natural Resources Building, Songsong, Rota 96951.

4. Agana, Guam - Friday, September 26, 2003, from 7-9 p.m. at the G. D. Perez Marina, Agana, Guam 96910.

Special Accommodations

These meetings are physically accessible to people with disabilities. Requests for sign language interpretation or other auxiliary aids should be directed to Kitty M. Simonds, 808-522-8220 (voice) or 808-522-8226 (fax), at least five days prior to the meeting date.

Authority: 16 U.S.C. 1801 et seq.

Dated: September 17, 2003.
Bruce C. Morehead,
Acting Director, Office of Sustainable Fisheries, National Marine Fisheries Service.

[FR Doc. 03-24115 Filed 9-22-03; 8:45 am]

BILLING CODE 3510-22-S